DEPARTMENT OF THE INTERIOR

Fish and Wildlife Service

Draft Recovery Plan for Vernal Pool Ecosystems of California and Southern Oregon

AGENCY: U.S. Fish and Wildlife Service, Interior.

ACTION: Notice of document availability for review and comment.

SUMMARY: The U.S. Fish and Wildlife Service (we) announces the availability of the Draft Recovery Plan for Vernal Pool Ecosystems of California and Southern Oregon for public review and comment. This draft recovery plan covers 33 species, of which 20 are federally listed as threatened or endangered. These species inhabit vernal pool ecosystems in California and southern Oregon. This draft recovery plan includes recovery criteria and measures for 20 federally listed species. Federally endangered plants include Eryngium constancei (Loch Lomond button-celery), Lasthenia conjugens (Contra Costa goldfields), Limnanthes floccosa ssp. californica (Butte County meadowfoam), Navarretia leucocephala ssp. pauciflora (few-flowered navarretia), Navarretia leucocephala ssp. plieantha (many-flowered navarretia), Orcuttia pilosa (hairy Orcutt grass), Orcuttia viscida (Sacramento Orcutt grass), Parvisedum leiocarpum (Lake County stonecrop), Tuctoria greenei (Greene's tuctoria), and Tuctoria mucronata (Solano grass). Federally threatened plants include Castilleja campestris ssp. succulenta (fleshy owl's clover), Chamaesyce hooveri (Hoover's spurge), Neostapfia colusana (Colusa grass), Orcuttia inaequalis (San Joaquin Valley Orcutt grass), and Orcuttia tenuis (slender Orcutt grass). Federally endangered animals include the Conservancy fairy shrimp (Branchinecta conservatio), longhorn fairy shrimp (Branchinecta longiantenna), and vernal pool tadpole shrimp (Lepidurus packardi). Federally threatened animals include the vernal pool fairy shrimp (Branchinecta lynchi) and delta green ground beetle (Elaphrus viridis). The portions of the plan dealing with the delta green ground beetle and Solano grass are a revision of the 1985 Delta Green Ground Beetle and Solano Grass Recovery Plan.

The draft recovery plan addresses conservation of 10 plant species of concern, including Astragalus tener var. ferrisiae (Ferris' milk vetch), Astragalus tener var. tener (alkali milk vetch), Atriplex persistens (persistent-fruited saltscale), Eryngium spinosepalum (spiny-sepaled button-celery), Gratiola heterosepala (Boggs Lake hedge-hyssop), Juncus leiospermus var. ahartii (Ahart's dwarf rush), Legenere limosa (legenere), Myosurus minimus var. apus (little mouse tail), Navarretia myersii ssp. deminuta (pincushion navarretia), and Plagiobothrys hystriculus (bearded popcorn flower). The three animal species of concern addressed in the draft recovery plan include the mid-valley fairy shrimp (Branchinecta mesovallensis), California fairy shrimp (Linderiella occidentalis), and western spadefoot toad (Spea hammondii).

DATES: Comments on the draft recovery plan must be received on or before March 18, 2005.

ADDRESSES: A copy of the draft recovery plan is available for review, by appointment, during normal business hours at the following U.S. Fish and Wildlife Service locations: Sacramento Fish and Wildlife Office, 2800 Cottage Way, Room W-2605, Sacramento, California (telephone (916) 414-6600); Carlsbad Fish and Wildlife Office, 6010 Hidden Valley Road, Carlsbad, California (telephone (760) 431-9440); Ventura Fish and Wildlife Office, 2493 Portola Road, Suite B, Ventura, California (telephone (805) 644-1766); Southwest Oregon Field Office, 2900 NW., Stewart Parkway, Roseburg, Oregon (telephone (541) 957-3473); and Arcata Fish and Wildlife Office, 1655 Heindon Road, Arcata, California (telephone (707) 822-7201. An electronic copy of this draft recovery plan is also available on the World Wide Web at http://pacific.fws.gov/ecoservices/endangered/recovery/plans.html and http://endangered.fws.gov/recovery/index.html#plans. Printed copies of the draft recovery plan will be available for distribution in 4 to 6 weeks.

FOR FURTHER INFORMATION CONTACT: Harry McQuillen or Betty Warne, Fish and Wildlife Biologists, at the above Sacramento address.

SUPPLEMENTARY INFORMATION:

Background

Restoring endangered or threatened animals and plants to the point where they are again secure, self-sustaining members of their ecosystems is a primary goal of our endangered species program. To help guide the recovery effort, we are working to prepare recovery plans for most of the listed species native to the United States. Recovery plans describe actions considered necessary for the conservation of the species, establish criteria for downlisting or delisting listed species, and estimate time and cost for implementing the recovery measures needed.

The Endangered Species Act of 1973, as amended (16 U.S.C. 1531 et seq.) (Act), requires the development of recovery plans for listed species unless such a plan would not promote the conservation of a particular species. Section 4(f) of the Act as amended in 1988 requires that public notice and an opportunity for public review and comment be provided during recovery plan development. We will consider all information presented during the public comment period prior to approval of each new or revised recovery plan. Substantive technical comments will result in changes to the plan as appropriate. Substantive comments regarding recovery plan implementation may not necessarily result in changes to the recovery plan, but will be forwarded to appropriate Federal or other entities so that they can take these comments into account during the course of implementing recovery actions. Individual responses to comments will not be provided.

The 33 species covered in this draft recovery plan occur primarily in vernal pool, swale, or ephemeral freshwater habitats within California and southern Oregon and are largely confined to a limited area by topographic constraints, soil types, and climatic conditions. Surrounding (or associated) upland habitat is critical to the proper ecological function of these vernal pool habitats. Most of the vernal pool plants and animals addressed in the draft recovery plan have life histories adapted to the short period for growth and reproduction within inundated or drying pools interspersed with long dormant periods when pools are dry, and extreme year-to-year variation in rainfall. Threats to the species include habitat loss, fragmentation, and degradation due to urban development, recreation, agricultural conversion and practices, and altered hydrology; non-native invasive species; inadequate regulatory mechanisms; incompatible grazing regimes; and stochastic events. All species covered in the draft recovery plan primarily are threatened by the loss, fragmentation, or degradation of vernal pool habitat throughout the following areas: the Central Valley of California, the southern Sierra foothills, the Carrizo Plain, portions of the Coast Ranges, the Modoc Plateau, the Transverse Ranges, Los Angeles, and San Diego areas of California, and the Klamath Mountains region in Oregon. Therefore, areas currently, historically, or potentially occupied by the species are recommended for habitat protection and/or special management considerations.

The objectives of this draft recovery plan are to: (1) Ameliorate the threats that caused the species to be listed, and ameliorate any other newly identified threats in order to be able to delist these species; and (2) ensure the long-term conservation of the species of concern. These objectives will be accomplished through implementation of a variety of recovery measures including habitat protection, management and restoration; monitoring; reintroduction, introduction, and enhancement; research and status surveys; and public participation, outreach, and education.

Public Comments Solicited

We solicit written comments on the draft recovery plan described. All comments received by the date specified above will be considered in developing a final recovery plan.

Authority

The authority for this action is section 4(f) of the Endangered Species Act, 16 U.S.C. 1533(f).

Dated: October 21, 2004.
Paul Henson,
Manager, California/Nevada Operations Office, Region 1, U.S. Fish and Wildlife Service.

[FR Doc. 04-25540 Filed 11-17-04; 8:45 am]

BILLING CODE 4310-55-P